DEPARTMENT OF COMMERCE

National Oceanic and Atmospheric Administration

[061101G]

Individual Fishing Quotas Program for Pacific Halibut and Sablefish in the Alaska Fisheries

AGENCY: National Oceanic and Atmospheric Administration (NOAA).

ACTION: Proposed information collection; comment request.

SUMMARY: The Department of Commerce, as part of its continuing effort to reduce paperwork and respondent burden, invites the general public and other Federal agencies to take this opportunity to comment on proposed and/or continuing information collections, as required by the Paperwork Reduction Act of 1995, Pub. L. 104-13 (44 U.S.C. 3506(c)(2)(A)).

DATES: Written comments must be submitted on or before August 13, 2001.

ADDRESSES: Direct all written comments to Madeleine Clayton, Departmental Paperwork Clearance Officer, Department of Commerce, Room 6086, 14th and Constitution Avenue NW, Washington DC 20230 (or via Internet at MClayton@doc.gov).

FOR FURTHER INFORMATION CONTACT: Requests for additional information or copies of the information collection instrument(s) and instructions should be directed to Patsy A. Bearden, F/AKR2, P.O. Box 21668, Juneau, AK 99802-1668 (telephone 907-586-7008).

SUPPLEMENTARY INFORMATION:

I. Abstract

The Individual Fishery Quota (IFQ) program, established by Amendment 15 to the Bering Sea and Aleutian Islands Fishery Management Plan and Amendment 20 to the Gulf of Alaska Fishery Management Plan, and implemented by regulations at 50 CFR part 679, commenced in March 1995. The IFQ program allocates annual total catch limits for the halibut and sablefish fisheries among individual fishermen. Fishermen are assigned Quota Shares (QS) for the fisheries, and then annually receive an IFQ. This statement supports the renewal of certain "collection of information" requirements necessary for the continued management of the IFQ program. The specific types of reporting required are identified below in the section for “Estimated Time Per Response”.

II. Method of Collection

The methods used include paper forms, facsimile transmission of paper forms, telephone notifications, and electronic reporting.

III. Data

OMB Number: 0648-0272.

Form Number: None.

Type of Review: Regular submission.

Affected Public: Not-for-profit institutions, business and other for-profit organizations.

Estimated Number of Respondents: 6,700.

Estimated Time Per Response: IFQ prior notice of landing (12 minutes); IFQ landing report (12 minutes); IFQ departure report (6 minutes); IFQ dockside sale (6 minutes); administrative waiver (6 minutes); request for QS application (30 minutes for an individual, 1 hour for an existing corporation, 2 hours for a dissolved corporation, and 2 hours for a vessel); IFQ vessel clearance report (12 minutes); IFQ shipment report (18 minutes); IFQ transshipment authorization request (12 minutes); QS Designated Beneficiary Form (1 hour); QS/IFQ Transfer Application (2 hours); letter of appeal (4 hours); applications for additional IFQ cards (30 minutes); application for crew member eligibility (2 hours); application for replacement cards (30 minutes); Register Buyer Permit Application (30 minutes); request for a transaction terminal (30 minutes); and identification of ownership interest by corporations and partnerships (2 hours for initial submission and 30 minutes for an annual update).

Estimated Total Annual Burden Hours: 22,775.

Estimated Total Annual Cost to Public: $126,000.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: Dated: June 8, 2001.
Gwellnar Banks,
Management Analyst, Office of the Chief Information Officer.

[FR Doc. 01-15061 Filed 6-13-01; 8:45 am]

BILLING CODE 3510-22-S